DEPARTMENT OF LABOR

Employment and Training Administration

[TA-W-53,156]

Halmode Apparel, Incorporated, a Division of Kellwood Company, Roanoke, Virginia; Notice of Revised Determination on Reconsideration

On January 12, 2004, the petitioner requested administrative review of the Department's negative determination regarding workers and former workers of the subject firm. The negative determination was issued on November 17, 2003 and published in the Federal Register on December 29, 2003 (68 FR 74977).

The initial determination stated that the subject worker group is engaged in the production of markers, that the subject company shifted marker production to a country not under a free trade agreement with the United States of America, and that the subject company was not importing markers.

On review of new information by the petitioner and careful review of information previously submitted by the company, it has been determined that the subject worker group was engaged in the production of dresses, that dress production shifted abroad, and that the subject company began importing dresses shortly after the shift occurred.

Conclusion

After careful review of the additional facts obtained on reconsideration, I conclude that increased imports of articles like or directly competitive with those produced at the subject firm, following a shift of production abroad, contributed importantly to the declines in sales or production and to the total or partial separation of workers at the subject firm. In accordance with the provisions of the Act, I make the following certification:

All workers of Halmode Apparel, Incorporated, A Division of Kellwood Company, Roanoke, Virginia, who became totally or partially separated from employment on or after September 30, 2002, through two years from the date of this certification, are eligible to apply for adjustment assistance under Section 223 of the Trade Act of 1974.

Signed in Washington, DC this 5th day of March 2004.
Elliott S. Kushner,
Certifying Officer, Division of Trade Adjustment Assistance.

[FR Doc. 04-5611 Filed 3-11-04; 8:45 am]

BILLING CODE 4510-30-P